SMALL BUSINESS ADMINISTRATION

[Disaster Declaration #20699 and #20700; FLORIDA Disaster Number FL-20012]

Presidential Declaration Amendment of a Major Disaster for the State of Florida

AGENCY: U.S. Small Business Administration.

ACTION: Amendment 3.

SUMMARY: This is an amendment of the Presidential declaration of a major disaster for the State of Florida (FEMA-4828-DR), dated 09/28/2024.

Incident: Hurricane Helene.

Incident Period: 09/23/2024 and continuing.

DATES: Issued on 10/07/2024.

Physical Loan Application Deadline Date: 11/27/2024.

Economic Injury (EIDL) Loan Application Deadline Date: 06/30/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Florida, dated 09/28/2024, is hereby amended to include the following areas as adversely affected by the disaster:

Primary Counties (Physical Damage and Economic Injury Loans): Alachua, Baker, Bradford, Collier, Duval, Putnam, Union.

Contiguous Counties (Economic Injury Loans Only):

Florida: Broward, Clay, Flagler, Miami-Dade, Monroe, Nassau, St. Johns, Volusia.

Georgia: Charlton, Ware.

All other information in the original declaration remains unchanged.

(Catalog of Federal Domestic Assistance Number 59008)

Rafaela Monchek,
Deputy Associate Administrator, Office of Disaster Recovery & Resilience.

[FR Doc. 2024-24182 Filed 10-18-24; 8:45 am]

BILLING CODE 8026-09-P